DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: DOC National Environmental Policy Act Environmental Questionnaire and Checklist.

OMB Control Number: 0690-0028.

Form Number(s): NA.

Type of Request: Regular submission (revision and extension of a current information collection).

Number of Respondents: 1,000.

Average Hours per Response: 3 hours.

Burden Hours: 3,000.

Needs and Uses: This request is for revision and extension of a currently approved information collection.

The National Environmental Policy Act (NEPA) (42 U.S.C. 4321-4347) and the Council on Environmental Quality's (CEQ) Regulations for Implementing NEPA (40 CFR 1500-1508) require that an environmental analysis be completed for all major federal actions significantly affecting the environment. NEPA applies only to the actions of federal agencies. Those actions may include a federal agency's decision to fund non-federal projects under grants and cooperative agreements. In order to determine NEPA compliance requirements for a project receiving Department of Commerce (DOC) bureau-level funding, DOC must assess information which can only be provided by the applicant for federal financial assistance (grant). These include mainly grants to applicants for federal assistance and federal entities proposing construction or infrastructure projects. NEPA requires that a number of items be considered prior to funding and conducting any activity.

The Environmental Questionnaire and Checklist (EQC) provides federal financial assistance applicants and DOC staff with a tool to ensure that the necessary project and environmental information is obtained. The EQC was developed to collect data concerning potential environmental impacts and help educate the Federal reviewer about the project, streamline the collection of data, and maintain consistency in quality and quantity of information received. The EQC will allow for a more rapid review of infrastructure projects and facilitate DOC in evaluating the potential environmental impacts of a project and level of NEPA required. DOC staff will use the information provided in answers to the questionnaire to determine compliance requirements for NEPA and conduct subsequent NEPA analysis as needed. Information provided in the questionnaire may also be used for other regulatory review requirements associated with the proposed project, such as the National Historic Preservation Act.

Revision: The checklist is being revised to improve understanding and clarity of the questions.

Affected Public: $1,000 in miscellaneous costs ($5 x approximately 200 respondents who would mail attachments rather than emailing them).

Frequency: On occasion.

Respondent's Obligation: Required to obtain or maintain benefits.

This information collection request may be viewed at reginfo.gov. Follow the instructions to view Department of Commerce collections currently under review by OMB.

Written comments and recommendations for the proposed information collection should be sent within 30 days of publication of this notice to OIRA_Submission@omb.eop.gov or faxed to (202) 395-5806.

Dated: April 23, 2014.
Gwellnar Banks,
Management Analyst, Office of the Chief Information Officer.

[FR Doc. 2014-09682 Filed 4-28-14; 8:45 am]

BILLING CODE 3510-NW-P